DEPARTMENT OF LABOR

Employment and Training Administration

[TA-W-65,441]

Triumph Apparel Corporation, York Manufacturing and York DC, a Subsidiary of Triumph Apparel Corporation, York, PA; Notice of Termination of Investigation

Pursuant to Section 221 of the Trade Act of 1974, as amended, an investigation was initiated on March 2, 2009 in response to a petition filed by a company official on behalf of workers of Triumph Apparel Corporation, York Manufacturing and York DC, a subsidiary of Triumph Apparel Corporation, York, Pennsylvania.

The petitioner has requested that the petition be withdrawn. Consequently, the investigation has been terminated.

Signed at Washington, DC, this 13th day of March 2009.
Elliott S. Kushner,
Certifying Officer, Division of Trade Adjustment Assistance.

[FR Doc. E9-6311 Filed 3-23-09; 8:45 am]

BILLING CODE 4510-FN-P